DEPARTMENT OF HEALTH AND HUMAN SERVICES

Centers for Medicare & Medicaid Services

[Document Identifier: CMS-304/304a, CMS-1515/1572, CMS-10291, CMS-10292, CMS-588 and CMS-R-232]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension without change of a currently approved collection; Title of Information Collection: Reconciliation of State Invoice and Prior Quarter Adjustment Statement; Use: Section 1927 of the Social Security Act requires drug manufacturers to enter into and have in effect a rebate agreement with CMS in order for States to receive funding for drugs dispensed to Medicaid recipients. Drug manufacturers must complete and submit to States the 304 form (the Reconciliation of State Invoice Form) to explain any rebate payment adjustments for the current quarter, and complete and submit the 304A form (the Prior Quarter Adjustment Statement Form) to States to explain rebate payment adjustments to any prior quarters. Both forms are used to reconcile drug rebate payments made by manufacturers with the State invoices of rebates due. Form Number: CMS-304/304a (OMB#: 0938-0676); Frequency: Reporting—Quarterly; Affected Public: Private Sector: Business or other for profits; Number of Respondents: 570; Total Annual Responses: 3820; Total Annual Hours: 141,080. (For policy questions regarding this collection contact Cindy Bergin at 410-786-1176. For all other issues call 410-786-1326.)

2. Type of Information Collection Request: Extension without change of a currently approved collection; Title of Information Collection: Home Health Agency Survey and Deficiencies Report, Home Health Functional Assessment Instrument and Supporting Regulations in 42 CFR 488.26 and 442.30. Use: In order to participate in the Medicare Program as a Home Health Agency (HHA) provider, the HHA must meet Federal Standards. These forms are used to record information and patients' health and provider compliance with requirements and to report the information to the Federal Government; Form Number: CMS-1515/1572 (OMB#: 0938-0355); Frequency: Reporting—Yearly; Affected Public: Health Care Services; Number of Respondents: 10,078; Total Annual Responses: 5,614; Total Annual Hours: 9,821. (For policy questions regarding this collection contact Patricia Sevast at 410-786-8135. For all other issues call 410-786-1326.)

3. Type of Information Collection Request: Extension without change of a currently approved collection; Title of Information Collection: Dental Provider and Benefit Information Posted on Insure Kids Now! Website; Form Number: CMS-10291 (OMB#: 0938-1065); Use: Section 501 of the Children's Health Insurance Program Reauthorization Act (CHIPRA) requires the Secretary to work with States, pediatric dentists, and other dental providers to include on the Insure Kids Now (IKN) website, a “current and accurate list of all dentists and providers within each State that provide dental services to children enrolled in the State plan (or waiver) under Medicaid or the State child health plan (or waiver) under CHIP. Section 501 of CHIPRA also requires the Secretary to ensure the list is updated at least quarterly and includes the description of the dental services provided under Medicaid or CHIP and whether the services are provided through a State plan or waiver. The Secretary shall also post on the IKN website State specific information on available dental benefits. This information collection requirement will allow States to collect the information on the dental providers and dental benefits in accordance with CHIPRA. Frequency: Yearly and Quarterly; Affected Public: State, Tribal and Local governments; Number of Respondents: 51; Total Annual Responses: 255; Total Annual Hours: 9,180. (For policy questions regarding this collection contact Nancy Goetschius at 410-786-0707. For all other issues call 410-786-1326.)

4. Type of Information Collection Request: New Collection; Title of Information Collection: State Medicaid HIT Plan and Templates for Implementation of Section 4201 of ARRA; Form Number: CMS-10292 (OMB#: 0938-NEW); Use: This information is being requested in order that States can submit documentation to CMS for review and approval in order that States can implement the Medicaid program and draw down Federal financial participation. The American Reinvestment and Recovery Act of 2009 (ARRA) provides States with the flexibility to request funds to develop a health information technology vision and road to get to the ultimate goal of meaningful use of certified electronic health records technology. We will be sending State Medicaid Directors letters and templates for the State Medicaid Hit Plan (SMHP), the Planning Advance Planning Document (PAPD) and the Implementation Advance Planning Document (IAPD) to States in an effort to request these changes if they so choose to make the process as simple as possible. Frequency: Yearly, once and/or occasionally; Affected Public: State, Tribal and Local governments; Number of Respondents: 56; Total Annual Responses: 56; Total Annual Hours: 280. (For policy questions regarding this collection contact Donna Schmidt at 410-786-5532. For all other issues call 410-786-1326.)

5. Type of Information Collection Request: Reinstatement without change of a previously approved collection; Title of Information Collection: Electronic Funds Transfer Authorization Agreement; Use: Section 1815(a) of the Social Security Act provides the authority for the Secretary of Health and Human Services to pay providers/suppliers of Medicare services at such time or times as the Secretary determines appropriate (but no less frequently than monthly). Under Medicare, CMS, acting for the Secretary, contracts with Fiscal Intermediaries and Carriers to pay claims submitted by providers/suppliers who furnish services to Medicare beneficiaries. Under CMS' payment policy, Medicare providers/suppliers have the option of receiving payments electronically. Form number CMS-588 authorizes the use of electronic fund transfers (EFTs). Form Number: CMS-588 (OMB#: 0938-0626); Frequency: Reporting—On occasion; Affected Public: Business or other for-profit and Not-for-profit institutions; Number of Respondents: 100,000; Total Annual Responses: 100,000; Total Annual Hours: 100,000. (For policy questions regarding this collection contact Kim McPhillips at 410-786-5374. For all other issues call 410-786-1326.)

6. Type of Information Collection Request: Reinstatement without change of a currently approved collection; Title of Information Collection: Medicare Integrity Program Organizational Conflict of Interest Disclosure Certificate and Supporting Regulations at 42 CFR 421.300-421.316; Use: Section 1893(d)(1) of the Social Security Act requires CMS to establish a process for identifying, evaluating, and resolving conflicts of interest. CMS proposed a process in Section 421.310 to mandate submission of pertinent information regarding conflicts of interest. The entities providing the information will be organizations that have been awarded, or seek award of, a Medicare Integrity Program contract. CMS needs this information to assess whether contractors who perform, or who seek to perform, Medicare Integrity Program functions, such as medical review, fraud review or cost audits, have organizational conflicts of interest and whether any conflicts have been resolved. Form Number: CMS-R-232 (OMB#: 0938-0723); Frequency: Reporting—On occasion; Affected Public: Business or other for-profit; Number of Respondents: 11; Total Annual Responses: 44; Total Annual Hours: 2,200. (For policy questions regarding this collection contact Joe Strazzire at 410-786-2775. For all other issues call 410-786-1326.)

To obtain copies of the supporting statement and any related forms for the proposed paperwork collections referenced above, access CMS Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received by the OMB desk officer at the address below, no later than 5 p.m. on December 30, 2009.

OMB, Office of Information and Regulatory Affairs, Attention: CMS Desk Officer, Fax Number: (202) 395-6974, E-mail: OIRA_submission@omb.eop.gov.

Dated: November 20, 2009.
Michelle Shortt,
Director, Regulations Development Group, Office of Strategic Operations and Regulatory Affairs.

[FR Doc. E9-28458 Filed 11-27-09; 8:45 am]

BILLING CODE 4120-01-P